SECURITIES AND EXCHANGE COMMISSION

Sunshine Act Meeting

Notice is hereby given, pursuant to the provisions of the Government in the Sunshine Act, Public Law 94-409, that the Securities and Exchange Commission will hold a roundtable discussion on money market funds and systemic risk on Tuesday, May 10, 2011, in the Multipurpose Room, L-006, beginning at 2 p.m. The roundtable will be webcast on the Commission's Web site at http://www.sec.gov and will be archived for later viewing.

The agenda for the roundtable will include a panel discussion on money market funds and systemic risk and will provide a forum for various stakeholders in money market funds to exchange views on the potential effectiveness of certain options in mitigating systemic risks associated with money market funds. These will include, but are not limited to, options raised in the President's Working Group report on possible money market fund reforms that was issued in October 2010 (http://www.treasury.gov/press-center/press-releases/Documents/10.21%20PWG%20Report%20Final.pdf).

This Sunshine Act notice is being issued because a majority of the Commission may attend the roundtable.

For further information, please contact the Office of the Secretary at (202) 551-5400.

May 2, 2011.
Elizabeth M. Murphy,
Secretary.

[FR Doc. 2011-11061 Filed 5-3-11; 11:15 am]

BILLING CODE 8011-01-P